DEPARTMENT OF THE INTERIOR

National Park Service

National Register of Historic Places; Notification of Pending Nominations and Related Actions

Nominations for the following properties being considered for listing or related actions in the National Register were received by the National Park Service before December 15, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 18, 2008.

J. Paul Loether,
Chief, National Register of Historic Places/National Historic Landmarks Program.

ARKANSAS

Carroll County

U.S. 62 White River Bridge, (Historic Bridges of Arkansas MPS) U.S. 62 approx. ¼ mi. S. of Co. Rd. 212, Eureka Springs, 07001421

Craighead County

Community Center #1, (New Deal Recovery Efforts in Arkansas MPS) 1212 S. Church St., Jonesboro, 07001422

First National Bank Building, 207 W. Drew Ave., Monette, 07001423

Monette Water Tower, (New Deal Recovery Efforts in Arkansas MPS) SW. corner jct. of AR 139 & Texie Ave., Monette, 07001424

Dallas County

Tennessee, Alabama & Georgia Railway Steam Locomotive #101, NW. of jct. of N. Main St. & Union Pacific RR., Fordyce, 07001425

Desha County

Mound Cemetery, .5 mi. N. of Arkansas City on Co. Rd. 351, Arkansas City, 07001426

Drew County

Look See Tree, SW. corner jct. of AR 83 & Pleasant Springs Rd., Coleman, 07001427

Little River County

Texarkana and Fort Smith Railway Depot, (Historic Railroad Depots of Arkansas MPS) Texarkana Ave., Wilton, 07001428

Logan County

Little Rock to Cantonment Gibson Road—Short Mountain Segment, Short Mt. Rd. between Horseshoe Mt. and Short Mt. Cr., Paris, 07001429

Madison County

War Eagle Creek Bridge, (Historic Bridges of Arkansas MPS) Co. Rd. 53 over War Eagle Cr., Old Alabam, 07001430

Pulaski County

Parnell Hall, 2400 W. Markham, Little Rock, 07001431

Roundtop Filling Station, (Arkansas Highway History and Architecture MPS) Jct. Trammel & Roundtop Rds., Sherwood, 07001432

Randolph County

Marr's Creek Bridge, (Historic Bridges of Arkansas MPS) S. Bettis St., Pocahontas, 07001433

Sebastian County

Hartford Water Tower, (New Deal Recovery Efforts in Arkansas MPS) Pine & 1st Sts., Hartford, 07001434

Union County

Murphy, J.T., No 1 Crater, Firetower Rd., ¾ mi. N. of jct. with Baugh St., Norphlet, 07001435

Washington County

Evansville—Dutch Mills Road Bridge, (Historic Bridges of Arkansas MPS) Co. Rd. 464, Dutch Mills, 07001436

White River Bridge at Elkins, (Historic Bridges of Arkansas MPS) Co. Rd. 44, Elkins, 07001437

Yell County

Old Arkansas 22—Dardanelle Segment, (Arkansas Highway History and Architecture MPS) Co. Rd. 906, ½ mi. W. of jct. AR 22 and Co. Rd. 51, Dardanelle, 07001438

CALIFORNIA

Los Angeles County

Board of Trade Building, 111 W. 7th St., Los Angeles, 07001439

CONNECTICUT

Fairfield County

Greenfield Hill Grange #133, 1873 Hillside Rd., Fairfield, 07001440

Silvermine Center Historic District, Roughly centered on Silvermine & Perry Aves., Norwalk, 07001441

MAINE

Hancock County

Hancock County Jail, 40 State St., Ellsworth, 07001445

Oxford County

Deering Memorial United Methodist Church, 39 Main St., Paris, 07001444

Penobscot County

Corinth Town Hall and Corinthian Lodge #59, I.O.O.F., 328 Main St., Corinth, 07001446

Enterprise Grange, No. 173, 446 Dow Rd., Orrington, 07001447

York County

Goodall, Louis B., Memorial Library, (Maine Public Libraries MPS) 952 Main St., Sanford, 07001448

Rock Rest, 167 Brave Boat Harbor Rd., Kittery, 07001449

MARYLAND

Frederick County

L'Hermitage Slave Village Archeological Site, Address Restricted, Frederick, 07001450

NEW YORK

Broome County

Binghamton Theatre, 236 Washington St., Binghamton, 07001451

Livingston County

Barber, Aaron, Memorial Building, 143 Genesee St., Avon, 07001452

Nassau County

House at 251 Rocklyn Ave., 251 Rocklyn Ave., Lynbrook, 07001454

House at 474 Ocean Avenue, 474 Ocean Ave., Lynbrook, 07001455

House at 73 Grove Street, 73 Grove St., Lynbrook, 07001456

Suffolk County

Davis Field, 2nd St., & 3rd Ave., Bayport, 07001456

WASHINGTON

King County

Palmer, A.L., Building, 1000 1st. Ave. S., Seattle, 07001457

Pierce County

Auditorium Dance Hall, The, 1308-1310 Fawcett Ave., Tacoma, 07001458

Beutel, Conrad F. & Annie K., House, 701 N. 10th St., Tacoma, 07001459

WISCONSIN

Dane County

Orpheum Theatre, 216 State St., Madison, 07001460

Kewaunee County

Perry, Melvin W. and Mary, House, 519 3rd St., Algoma, 07001461

A request to MOVE has been made for the following resource:

NEW YORK

New York County

Hamilton Grange National Memorial, 287 Convent Ave., New York, 66000097

A request for REMOVAL has been made for the following resources:

ARKANSAS

Ashley County

Greenview Café, 3rd Ave. and Arkansas St., Crossett, 04001507

Hempstead County

Carrigan House 704 W. Ave. B., Hope, 78000591

Independence County

Locust Grove School, AR 230 S. of jct. with AR 25, Locust Grove, 92001107

Jefferson County

Collier House, 1227 W. 5th St., Pine Bluff, 82000824

Lonoke County

St. Louis Southwestern Railway (Cotton Belt Route) Depot, Main St., Coy, 03001459

[FR Doc. 07-6277 Filed 1-2-08; 8:45 am]

BILLING CODE 4312-51-M